DEPARTMENT OF STATE

[Public Notice 8183]

Bureau of International Security and Nonproliferation Imposition of Missile Sanctions on Two Chinese Foreign Persons

AGENCY: Bureau of International Security and Nonproliferation, Department of State.

ACTION: Notice.

SUMMARY: A determination has been made that two foreign persons in China have engaged in activities that require the imposition of missile sanctions pursuant to the Arms Export Control Act, as amended, and the Export Administration Act of 1979, as amended (as carried out under Executive Order 13222 of August 17, 2001).

DATES: Effective Date: February 11, 2013.

FOR FURTHER INFORMATION CONTACT: Pam Durham, Office of Missile, Biological, and Chemical Nonproliferation, Bureau of International Security and Nonproliferation, Department of State (202-647-4930). On U.S. Government procurement ban issues, Eric Moore, Office of the Procurement Executive, Department of State (703-875-4079).

SUPPLEMENTARY INFORMATION: Pursuant to Section 73(a)(1) of the Arms Export Control Act (22 U.S.C. 2797b(a)(1)); Section 11B(b)(1) of the Export Administration Act of 1979 (50 U.S.C. App. 2410b(b)(1)), as carried out under Executive Order 13222 of August 17, 2001 (hereinafter cited as the “Export Administration Act of 1979”); and Executive Order 12851 of June 11, 1993; the U.S. Government determined on December 21, 2012 that the following foreign persons have engaged in missile technology proliferation activities that require the imposition of missile sanctions described in Section 73 of the AECA (22 U.S.C. 2797b) and Section 11B of the EAA (50 U.S.C. Appx 24710b):

Dalian Sunny Industries, (China), and its sub-units and successors; Li Fangwei (China) [also known as: Karl Lee].

Accordingly, the following sanctions are being imposed on these foreign persons for two years:

(A) Denial of all new individual export licenses for the transfer of MTCR Annex items to the sanctioned entities;

(B) Denial of all U.S. Government contracts relating to MTCR Annex items with the sanctioned entities.

These measures shall be implemented by the responsible departments and agencies of the United States Government as provided in Executive Order 12851 of June 11, 1993.

Dated: February 5, 2013.
Simon Limage,
Acting Assistant Secretary of State for International Security and Nonproliferation.

[FR Doc. 2013-03035 Filed 2-8-13; 8:45 am]

BILLING CODE 4710-25-P